DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Canadian National Illinois Central Railroad

[Docket Number FRA-2000-8089]

Canadian National Illinois Central Railroad (CN/IC) seeks a permanent waiver of compliance from certain provisions of the Railroad Safety Appliance Standards, 49 CFR Part 231, and the Railroad Power Brakes and Drawbars regulations, 49 CFR Part 232, concerning RoadRailer®” train operations over their system. Specifically, CN/IC requests relief from those sections of 49 CFR Part 231 which stipulates the number, location and dimensions for handholds, ladders, sill steps, uncoupling levers and handbrakes. CN/IC also seeks relief from 49 CFR Part 232.2 which sets the standard height for drawbars.

CN/IC states that this waiver is necessary to permit them to begin operation of RoadRailer equipment between Chicago, Illinois, and Port Huron, Michigan. CN/IC requests that this petition, if approved, be modeled on conditions contained in waiver FRA-1999-5895 which was granted to the Burlington Northern Santa Fe Railway in May 2000.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2000-8089) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, D.C. on November 9, 2000.
Grady C. Cothen, Jr.,
Deputy Associate Administrator for Safety Standards and Program Development.

[FR Doc. 00-29317 Filed 11-15-00; 8:45 am]

BILLING CODE 4910-06-P